DEPARTMENT OF TRANSPORTATION

Federal Aviation Administration

Public Notice for Waiver of Non-Aeronautical Land-Use Assurance Related to the Proposed Release and Exchange of Airport Property at Acadiana Regional Airport, New Iberia, Louisiana

AGENCY: Federal Aviation Administration, DOT.

ACTION: Notice of intent of waiver with respect to land and concurrence of land swap.

SUMMARY: The Federal Aviation Administration (FAA) is considering a proposal to authorize the release and exchange of approximately 7.231 acres of the airport property at the Acadiana Regional Airport, New Iberia LA, owned by the New Iberia Parish. The Parish is proposing a land swap to exchange this 7.231 acre parcel for another parcel of approximately 10.548 acres.

The acreage being released is not needed for aeronautical use as currently identified on the Airport Layout Plan. The new proposed parcel will be used for the Acadiana Regional Airport, New Iberia LA, Access Road project from Louisiana Highway 675 (Jefferson Island Road) to Louisiana Highway 3212 (Northwest Bypass).

The acreage being released comprising this parcel was originally acquired in 1970 when the Parish governing body petitioned the U.S. government for release of 2,100 acres of previously the Naval Air Station New Iberia property for civil aviation use through the General Services Administration excess land disposal process. In exchange for the 7.231 acres the airport will receive a new parcel of land described above for the Acadiana Regional Airport, New Iberia LA, Access Road project. The 7.231 acre parcel (Tract 14) is Zoned “I-1: Industrial” and has access to LA Highway 3212 (Prairie Road) and is being proposed to be swapped for approximately 10.548 acres (Tract 13) Zoned “A-1: Agricultural”. The appraised fair market value of the proposed 7.231 acres parcel is $64,000, the fair market value of the proposed acquired parcel is $58,000. The difference of $6,000 in fair market value between Tract 14 and Tract 13 will be compensated by the Iberia Parish Council to the Iberia Airport Authority to accommodate FAA auditing standards and requirements to prevent the potential for “diversion of funds (assets)”. A Phase I, Environmental Site Assessment was conducted and published on April 14, 2014 resulting in the assessment that did not reveal any evidence of Recognized Environmental Conditions (RECs) in connection with the new acquired property. This action and the affected properties have been evaluated by the Department of the Army, New Orleans District, Corps of Engineers, the State Office of Historic Preservation, Department of Culture, Recreation and Tourism, and the Louisiana Ecological Services Office with a determination of an activity that would not negatively affect any wetland subject to Corps' jurisdiction, historical properties or threatened or endangered species respectively. Approval does not constitute a commitment by the FAA to financially assist in the disposal of the subject property nor a determination of eligibility for grant-in-aid funding from the FAA. The disposition of proceeds (or compensation) from the disposal of the airport property will be in accordance with FAA's Policy and Procedures Concerning the Use of Airport Revenue, published in the Federal Register on February 16, 1999.

In accordance with section 47107(c)(2)(B) of title 49, United States Code, this notice is required to be published in the Federal Register 30 days before modifying the land-use assurance that requires the property to be used for an aeronautical purpose and concurring with the proposed land swap.

DATES: Comments must be received on or before November 10, 2014.

ADDRESSES: Comments on this Application may be mailed or delivered to the FAA at the following address: Lacey D. Spriggs, Manager, Federal Aviation Administration, Southwest Region, Airports District Office, ASW-640J, 2601 Meacham Boulevard, Suite 684, Fort Worth, Texas 76137.

Documents reflecting this FAA action may be reviewed at this same location or at the Louisiana Department of Transportation, Division of Aviation, P.O. Box 94245, Baton Rouge, LA 70804-9245.

FOR FURTHER INFORMATION CONTACT: Mr. John V. Dawson, Program Manager, Federal Aviation Administration, Airports District Office, 2601 Meacham Boulevard, Suite 684, Fort Worth, Texas 76137.

Documents reflecting this FAA action may be reviewed at this same location or at the Louisiana Department of Transportation, Division of Aviation, and P.O. Box 94245, Baton Rouge, LA 70804-9245.

SUPPLEMENTARY INFORMATION: Following is a description of the subject airport property to be released at the Acadiana Regional Airport in New Iberia, LA and described as follows:

A parcel of land located in Section 32, Township 11 South, Range 6 East. Said parcel subject to all easements, restrictions, and reservations of record.

Any person may inspect the request in person at the FAA office listed above under FOR FURTHER INFORMATION CONTACT.

In addition, any person may, upon request, inspect the application, notice and other documents germane to the application in person at the Louisiana Department of Transportation, Division of Aviation, Baton Rouge LA 70804-9245.

Issued in Fort Worth, Texas on October 3, 2014.
Lacey D. Spriggs,
Acting Manager, Airports Division.

[FR Doc. 2014-24146 Filed 10-8-14; 8:45 am]

BILLING CODE 4910-13-P